DEPARTMENT OF LABOR

Employment and Training Administration

[TA-W-52,621]

Lala Ellen Knitting, Ft. Payne, Alabama; Notice of Termination of Investigation

Pursuant to section 221 of the Trade Act of 1974, as amended, an investigation was initiated on August 19, 2003, in response to a petition filed by a company official on behalf of workers at Lala Ellen Knitting, Ft. Payne, Alabama.

The petitioner has requested that the petition be withdrawn. Consequently, the investigation has been terminated.

Signed at Washington, DC, this 21st day of August, 2003.
Elliott S. Kushner,
Certifying Officer, Division of Trade Adjustment Assistance.

[FR Doc. 03-23721 Filed 9-16-03; 8:45 am]

BILLING CODE 4510-30-P